DEPARTMENT OF AGRICULTURE

Forest Service

Willamette Province Advisory Committee

AGENCY: Forest Service, USDA.

ACTION: Notice of meeting.

SUMMARY: The Willamette Province Advisory Committee (PAC) will meet in Salem, Oregon. The purpose of the meeting is to discuss issues pertinent to the implementation of the Northwest Forest Plan (NFP) and to provide advice to federal land managers in the Province. The specific topics to be covered at the meeting include planning for the 2004 Province Implementation monitoring; the FS and BLM status in meeting the terms of the Settlement Agreement of the lawsuit American Forest Resource Council v. BLM involving the Northwest Forest Plan, and the eighth year evaluation of BLM Resource Management Plans.

DATES: The meeting will be held March 18, 2004.

ADDRESSES: The meeting will be held at the Red Lion Hotel, 3301 Market Street, Salem, Oregon. Send written comments to Neal Forrester, Willamette Province Advisory Committee, c/o Willamette National Forest, P.O. Box 10607, Eugene, Oregon 97440, (541) 225-6436 or electronically to nforrester@fs.fed.us.

FOR FURTHER INFORMATION CONTACT: Neal Forrester, Willamette National Forest, (541) 225-6436.

SUPPLEMENTARY INFORMATION: The meeting is open to the public. Committee discussion is limited to PAC members. However, persons who wish to bring matters to the attention of the Committee may file written statements with the PAC staff before or after the meeting. A public forum will be provided and individuals will have the opportunity to address the PAC. Oral comments will be limited to three minutes.

Dated: February 24, 2004.
H. “Woody” Fine,
Acting Forest Supervisor, Willamette National Forest.

[FR Doc. 04-4557 Filed 3-1-04; 8:45 am]

BILLING CODE 3410-11-M